DEPARTMENT OF ENERGY

Federal Energy Regulatory Commission

[Project No. 2459-279]

Lake Lynn Generation, LLC; Notice of Intent To Prepare an Environmental Assessment (March 5, 2025)

On November 30, 2022, Lake Lynn Generation, LLC (Lake Lynn Generation) filed an application to relicense the 51.2-megawatt Lake Lynn Hydroelectric Project No. 2459. The project is located on the Cheat River, near the city of Morgantown, in Monongalia County, West Virginia, and near the borough of Point Marion, in Fayette County, Pennsylvania.

In accordance with the Commission's regulations, on December 19, 2024, Commission staff issued a notice that the project was ready for environmental analysis (REA notice). Based on the information in the record, including comments filed on the REA Notice, staff does not anticipate that licensing the project would constitute a major federal action significantly affecting the quality of the human environment. Therefore, staff intends to prepare an environmental assessment (EA) on the application to relicense the project.¹

¹ For tracking purposes under the National Environmental Policy Act, the unique identification number for documents relating to this environmental review is EAXX-019-20-000-1740488411.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

The application will be processed according to the following schedule. The EA will be issued for a 45-day comment period. Revisions to the schedule may be made as appropriate.

Milestone | Target date
Commission issues EA | September 30, 2025.

Any questions regarding this notice may be directed to Allan Creamer at 202-502-8365, allan.creamer@ferc.gov.

Dated: March 5, 2025.
Debbie-Anne A. Reese,
Secretary.

[FR Doc. 2025-03879 Filed 3-10-25; 8:45 am]

BILLING CODE 6717-01-P